DEPARTMENT OF ENERGY

Federal Energy Regulatory Commission

[Docket No. IC22-6-000]

Commission Information Collection Activities (FERC-714) Comment Request; Extension

AGENCY: Federal Energy Regulatory Commission, DOE.

ACTION: Notice of information collection and request for comments.

SUMMARY: In compliance with the requirements of the Paperwork Reduction Act of 1995, the Federal Energy Regulatory Commission (Commission or FERC) is soliciting public comment on the currently approved information collection, FERC-714, (Annual Electric Balancing Authority Area and Planning Area Report).

DATES: Comments on the collection of information are due March 21, 2022.

ADDRESSES: You may submit your comments (identified by Docket No. IC22-6-000) by one of the following methods:

Electronic filing through http://www.ferc.gov, is preferred.

• Electronic Filing: Documents must be filed in acceptable native applications and print-to-PDF, but not in scanned or picture format.

• For those unable to file electronically, comments may be filed by USPS mail or by hand (including courier) delivery:

○ Mail via U.S. Postal Service Only: Addressed to: Federal Energy Regulatory Commission, Secretary of the Commission, 888 First Street NE, Washington, DC 20426.

○ Hand (including courier) Delivery: Deliver to: Federal Energy Regulatory Commission, 12225 Wilkins Avenue, Rockville, MD 20852.

Instructions: All submissions must be formatted and filed in accordance with submission guidelines at: http://www.ferc.gov. For user assistance, contact FERC Online Support by email at ferconlinesupport@ferc.gov, or by phone at (866) 208-3676 (toll-free).

Docket: Users interested in receiving automatic notification of activity in this docket or in viewing/downloading comments and issuances in this docket may do so at http://www.ferc.gov.

FOR FURTHER INFORMATION CONTACT: Ellen Brown may be reached by email at DataClearance@FERC.gov, telephone at (202) 502-8663.

SUPPLEMENTARY INFORMATION: Title: FERC-714, Annual Electric Balancing Authority Area and Planning Area Report.

OMB Control No.: 1902-0140.

Type of Request: Three-year extension of the FERC-714 information collection requirements with no changes to the current reporting requirements.

Abstract: The Commission uses the FERC-714 data to analyze power system operations. These analyses estimate the effect of changes in power system operations resulting from the installation of a new generating unit or plant, transmission facilities, energy transfers between systems, and/or new points of interconnections. The FERC-714 data assists in providing a broad picture of interconnected balancing authority area operations including: Comprehensive information of balancing authority area generation, actual and scheduled inter-balancing authority area power transfers, and net energy for load, summer and winter generation peaks and system lambda. The Commission also uses the data to prepare status reports on the electric utility industry including a review of inter-balancing authority area bulk power trade information. The Commission uses the collected data from planning areas to monitor forecasted demands by electric utilities with fundamental demand responsibilities and to develop hourly demand characteristics.

Type of Respondent: Electric utility balancing authorities and planning areas in the United States.

Estimate of Annual Burden: ¹ The Commission estimates the annual public reporting burden and cost ² (rounded) for the information collection as follows:

¹ Burden is defined as the total time, effort, or financial resources expended by persons to generate, maintain, retain, or disclose or provide information to or for a Federal agency. For further explanation of what is included in the information collection burden, refer to 5 CFR 1320.3.

² The hourly cost (for salary plus benefits) uses the figures from the Bureau of Labor Statistics, May 2021, for the listed reporting requirements. These figures include salary (https://www.bls.gov/oes/current/naics2_22.htm) and benefits http://www.bls.gov/news.release/ecec.nr0.htm) and are:

Management (Code 11-0000), $97.89/hr.

Computer and mathematical (Code 15-0000), $65.73/hr.

Electrical Engineers (Code 17-2071), $72.15/hr.

Economist (Code 19-3011), $75.75/hr.

Computer and Information Systems Managers (Code 11-3021), $103.61/hr.

Accountants and Auditors (Code 13-2011), $57.41/hr.

Transportation, Storage, and Distribution Managers (Code 11-3071), $86.80/hr.

Power Distributors and Dispatchers (Code 51-8012), $63.74/hr.

The average hourly cost (wages plus benefits) for the above wages is $77.89/hour (rounded to $78.00/hour).

FERC-714
[Annual Electric Balancing Authority Area and Planning Area Report]
Number of respondents | Annual number of responses per respondent | Total number of responses | Average burden & cost per response | Total annual burden hours & total annual cost | Cost per respondent ($)
(1) | (2) | (1) * (2) = (3) | (4) | (3) * (4) = (5) | (5) ÷ (1)
176 | 1 | 176 | 93.33 hrs.; $7,279.74 | 16,426.67 hrs.; $1,281,280.26 | $7,279.74

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 11, 2022.
Kimberly D. Bose,
Secretary.

[FR Doc. 2022-00813 Filed 1-14-22; 8:45 am]

BILLING CODE 6717-01-P